DEPARTMENT OF LABOR

Employment and Training Administration

[TA-W-38,592; TA-W-38,592A]

Exide Technologies, Automotive Battery Division, AKA GNB Batteries, Inc., AKA Exide Corporation Farmers Branch, TX; Exide Technologies Oklahoma City Distribution Center, AKA GNB Batteries, Inc., AKA Exide Corporation Oklahoma City, OK, Amended Certification Regarding Eligibility To Apply for Worker Adjustment Assistance

In accordance with section 223 of the Trade Act of 1974 (19 U.S.C. 2273) the Department of Labor issued a Notice of Certification Regarding Eligibility to Apply for Worker Adjustment Assistance on January 31, 2001, applicable to workers of Exide Technologies, Automotive Battery Division, aka GNB Batteries, Inc., aka Exide Corporation, Farmers Branch, Texas. The notice was published in the Federal Register on March 2, 2001 (66 FR 13086).

At the request of the company, the Department reviewed the certification for workers of the subject firm. The workers were engaged in the production of lead acid batteries.

New information shows that worker separations occurred at the Oklahoma City Distribution Center of Exide Technologies, aka GNB Batteries, Inc., aka Exide Corporation, Oklahoma City, Oklahoma when it closed in August, 2001. The Oklahoma City, Oklahoma location provided warehousing and distribution services for Exide Technologies; production facilities including Farmers Branch, Texas.

Accordingly, the Department is amending the certification to cover the workers of Exide Technologies, Oklahoma City Distribution Center, aka GNB Batteries, Inc., aka Exide Corporation, Oklahoma City, Oklahoma.

The intent of the Department's certification is to include all workers of Exide Technologies, Automotive Battery Division, aka GNB Batteries, Inc., aka Exide Corporation who were adversely affected by increased imports of lead acid batteries.

The amended notice applicable to TA-W-38,592 is hereby issued as follows:

All workers of Exide Technologies, Automotive Battery Division, aka GNB Batteries, Inc., aka Exide Corporation. Farmers Branch, Texas (TA-W-38,592) and Exide Technologies, Oklahoma City Distribution Center, aka GNB Batteries, Inc., aka Exide Corporation, Oklahoma City, Oklahoma (TA-W-39,592A) who became totally or partially separated from employment on or after January 10, 2000, through January 31, 2003, are eligible to apply for adjustment assistance under Section 223 of the Trade Act of 1974.

Signed at Washington, DC, this 10th day of September, 2001.
Edward A. Tomchick,
Director, Division of Trade Adjustment Assistance.

[FR Doc. 01-24818 Filed 10-3-01; 8:45 am]

BILLING CODE 4510-30-M